DEPARTMENT OF COMMERCE

National Oceanic and Atmospheric Administration

15 CFR Part 922

Correction to the Florida Keys National Marine Sanctuary Regulations

AGENCY: National Marine Sanctuaries Program (NMSP), National Ocean Service (NOS), National Oceanic and Atmospheric Administration (NOAA), Department of Commerce (DOC).

ACTION: Proposed rule; correction

SUMMARY: The National Oceanic and Atmospheric Administration (NOAA) is adding language to a Proposed Rule concerning the Florida Keys National Marine Sanctuary (Docket No. 0005100129-0120-01) that was published in the Federal Register on May 18, 2000 (Volume 65, Number 97, Pages 31633-31680), to provide additional information in response to the requirements of the Paperwork Reduction Act.

DATES: Comments on this correction may be submitted with comments on the proposed rule which will be considered if received by July 31, 2000.

ADDRESSES: Written comments must be submitted to Sanctuary Superintendent, Florida Keys National Marine Sanctuary, P.O. Box 500368, Marathon, Florida, 33050. Comments may also be sent by facsimile to: (305) 743-2357. Comments will not be considered if submitted by e-mail or internet.

FOR FURTHER INFORMATION CONTACT: Billy Causey, Sanctuary Superintendent, at (305) 743-2437.

SUPPLEMENTARY INFORMATION: The following new paragraph is to be added to the second paragraph in the classification section for the Paperwork Reduction Act, on page 31670:

“Collection-of-information requirements for certification of preexisting leases, licenses, permits, approvals, or other authorizations in National Marine Sanctuaries, have been approved under OMB #0648-0141. The proposed rule would apply the certification requirement of Section 922.168 to holders of preexisting leases, licenses, permits, approvals, or other authorizations, in the boundary expansion area of the Tortugas Ecological Reserve. The estimated response time for this requirement is 30 minutes.”

In addition, the following language is to be added to the end of the classification section for the Paperwork Reduction Act, also at page 31670:

“Send comments on these or any other aspects of the collection of information to Billy Causey, Sanctuary Superintendent, Florida Keys National Marine Sanctuary, P.O. Box 500368, Marathon, Florida, 33050; and to OMB at the Office of Information and Regulatory Affairs, Office of Management and Budget, Washington, D.C., 20503 (Attention: NOAA Desk Officer).”

Authority: DSEIS/SMP is developed pursuant to section 304(a)(2) of the NMSA, 16 U.S.C. Sec. 1434(a)(2), consistent with, and in fulfillment of, the requirements of the National Environmental Policy Act of 1969.

(Federal Domestic Assistance Catalog Number 11.429 Marine Sanctuary Program)

Dated: June 1, 2000.
Ted Lillestolen,
Deputy Assistant Administrator for Ocean Services and Coastal Zone Management.

[FR Doc. 00-14116 Filed 6-1-00; 2:40 pm]

BILLING CODE 3510-08-M